DEPARTMENT OF AGRICULTURE

Agricultural Marketing Service

[Doc. # FV-04-308]

United States Standards for Grades of Sweet Peppers

AGENCY: Agricultural Marketing Service, USDA.

ACTION: Notice.

SUMMARY: The Agricultural Marketing Service (AMS), prior to undertaking research and other work associated with revising official grade standards, is soliciting comments on the possible revision to the United States Standards for Grades of Sweet Peppers. The Fruit and Vegetable Industry Advisory Committee has asked AMS to review all fresh fruit and vegetable grade standards for usefulness in serving the industry. As a result, AMS has noted that tolerances need to be separated for decay affecting walls and/or calyxes from decay affecting stems only. Other areas for possible revision include adopting and defining industry terms for size and color. Additionally, AMS is seeking comments regarding any other revisions that may be necessary to better serve the industry.

DATES: Comments must be received by August 16, 2004.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; fax (202) 720-8871, E-mail FPB.DocketClerk@usda.gov or you may also send your comments by the electronic process available at the Federal eRulemaking portal at http://www.regulations.gov. Comments should make reference to the dates and page number of this issue of the Federal Register and will be made available for public inspection in the above office during regular business hours.

FOR FURTHER INFORMATION CONTACT: David L. Priester, at the above address or call (202) 720-2185; E-mail David.Priester@usda.gov.

SUPPLEMENTARY INFORMATION: In a 2003 meeting of the Fruit and Vegetable Industry Advisory Committee, AMS was asked to review all fresh fruit and vegetable grade standards for usefulness in serving the industry. AMS has identified the United States Standards for Grades of Sweet Peppers for possible revision. These standards were last revised in 1989. The current standards for all grades of sweet peppers allow a two percent tolerance for decay affecting stems, walls and calyxes. All decay seriously detracts from the appearance or the edible or shipping quality of the pepper. However, decay affecting the stems only does not affect the edible portion of the pepper. Therefore, AMS is considering a change in the scoring and reporting of decay. Decay affecting walls and calyxes shall continue to be scored against the restrictive tolerance of two percent for decay. Decay affecting the stems only shall be scored against the serious damage tolerance of five percent for U.S. Fancy and U.S. No. 1 grades, and against the total lot tolerance of ten percent for serious damage in the U.S. No. 2 grade. AMS believes that a change to the decay tolerance is warranted to better serve the industry. Other areas under review are industry terms for size based on 11/9 bushel containers as well as the terms “chocolate” and “suntan” which the industry uses to describe the color of peppers. Prior to undertaking detailed work to develop the proposed revised standards, AMS is soliciting comments on the possible revision of the standards for grades of sweet peppers and the probable impact on distributors, processors, and growers.

This notice provides for a 60-day comment period for interested parties to comment on changes to the standards. Should AMS proceed with revising the standards, the proposed revision of the standards will be published in the Federal Register with a request for comments.

Dated: June 7, 2004.
A.J. Yates,
Administrator, Agricultural Marketing Service.

[FR Doc. 04-13360 Filed 6-14-04; 8:45 am]

BILLING CODE 3410-02-U